DEPARTMENT OF AGRICULTURE

Agricultural Marketing Service

[Document Number AMS-NOP-16-0049; NOP-16-07]

Notice of Meeting of the National Organic Standards Board

AGENCY: Agricultural Marketing Service, USDA.

ACTION: Notice of public meeting.

SUMMARY: In accordance with the Federal Advisory Committee Act, as amended, (5 U.S.C. App.), the Agricultural Marketing Service (AMS), U.S. Department of Agriculture (USDA), is announcing a meeting of the National Organic Standards Board (NOSB) to assist the USDA in the development of standards for substances to be used in organic production and to advise the Secretary of Agriculture on any other aspects of the implementation of Organic Foods Production Act.

DATES: The Board will receive public comments via webinar on November 3, 2016 from 1:00 p.m. to approximately 4:00 p.m. Eastern Time (ET). A face-to-face meeting will be held November 16-18, 2016, from 8:30 a.m. to approximately 6:00 p.m. ET. The deadline to submit written comments and/or sign up for oral comment at either the webinar or face-to-face meeting is 11:59 p.m. ET, October 26, 2016.

ADDRESSES: The November 3, 2016 webinar is virtual and will be accessed via the internet and/or phone. Access information will be available on the AMS Web site prior to the webinar. The November 16-18, 2016 meeting will take place at the Chase Park Plaza Hotel, 212 N. Kingshighway Blvd., St. Louis, MO 63108. Detailed information pertaining to the webinar and face-to-face meeting, including instructions about providing written and oral comments can be found at www.ams.usda.gov/NOSBMeetings.

FOR FURTHER INFORMATION CONTACT: Ms. Michelle Arsenault, Advisory Committee Specialist, National Organic Standards Board, USDA-AMS-NOP, 1400 Independence Ave. SW., Room 2642-S, Mail Stop 0268, Washington, DC 20250-0268; Phone: (202) 720-3252; Email: nosb@ams.usda.gov.

SUPPLEMENTARY INFORMATION: The NOSB makes recommendations to the Department of Agriculture about whether substances should be allowed or prohibited in organic production and/or handling, assists in the development of standards for organic production, and advises the Secretary on other aspects of the implementation of the Organic Foods Production Act (7 U.S.C. 6501-6522). The public meeting allows the NOSB to discuss and vote on proposed recommendations to the USDA, receive updates from the USDA National Organic Program (NOP) on issues pertaining to organic agriculture, and receive comments from the organic community. The meeting is open to the public. All meeting documents, including the meeting agenda, NOSB proposals and discussion documents, instructions for submitting and viewing public comments, and instructions for requesting time for oral comments will be available on the AMS Web site at www.ams.usda.gov/NOSBMeetings. Please check the Web site periodically for updates. Meeting topics will encompass a wide range of issues, including: Substances petitioned for addition to or deletion from the National List of Allowed and Prohibited Substances (National List), substances on the National List that require NOSB review before their 2018 sunset dates, and guidance on organic policies. At this meeting, the NOSB will complete its review of substances that have a sunset date in 2018. Participants and attendees may take photos and video at the meeting, but not in a manner that disturbs the proceedings.

Public Comments: Comments should address specific topics noted on the meeting agenda.

Written comments: Written public comments will be accepted on or before 11:59 p.m. ET October 26, 2016 via http://www.regulations.gov. Comments submitted after this date will be provided to the NOSB, but Board members may not have adequate time to consider those comments prior to making recommendations. The NOP strongly prefers comments to be submitted electronically; however, written comments may also be submitted (i.e. postmarked) by the deadline, via mail to the person listed under FOR FURTHER INFORMATION.

Oral Comments: The NOSB is providing the public multiple dates and opportunities to provide oral comments and will accommodate as many individuals and organizations as time permits. Persons or organizations wishing to make oral comments must pre-register by 11:59 p.m. ET, October 26, 2016, and can only register for one speaking slot: Either during the webinar, November 3, 2016, or at the face-to-face meeting, November 16-18, 2016. Once the schedule is full, individuals will be added to a waiting list. Instructions for registering and participating in the webinar can be found at www.ams.usda.gov/NOSBMeetings.

Meeting Accommodations: The meeting hotel is ADA Compliant, and the USDA provides reasonable accommodation to individuals with disabilities where appropriate. If you need a reasonable accommodation to participate in this public meeting, please notify the person listed under FOR FURTHER INFORMATION CONTACT. Determinations for reasonable accommodation will be made on a case-by-case basis.

Dated: July 26, 2016.
Elanor Starmer,
Administrator, Agricultural Marketing Service.

[FR Doc. 2016-18107 Filed 7-29-16; 8:45 am]

BILLING CODE 3410-02-P